NUCLEAR REGULATORY COMMISSION

[Docket No. 50-391; NRC-2008-0369]

Draft Supplement 2 to Final Environmental Statement Related to the Operation of Watts Bar Nuclear Plant, Unit 2; Tennessee Valley Authority

AGENCY: U.S. Nuclear Regulatory Commission (NRC).

ACTION: Draft environmental statement, extension of public comment period.

SUMMARY: On November 10, 2011, the NRC published in the Federal Register (76 FR 70169) an opportunity for public comment on NUREG-0498, “Final Environmental Statement, Supplement 2, Related to the Operation of Watts Bar Nuclear Plant [WBN], Unit 2—Draft Report for Comment” (draft SFES). The draft SFES related to the review of the operating license application for WBN Unit 2 had been prepared in accordance with Section 51.92 of Title 10 of the Code of Federal Regulations. In response to requests from several members of the public, the NRC is extending the public comment period until January 24, 2012.

DATES: Submit comments by January 24, 2012. Comments received after this date will be considered if it is practical to do so, but the NRC is able to ensure consideration only for comments received on or before this date.

ADDRESSES: Please include Docket ID NRC-2008-0369 in the subject line of your comments. For additional instructions on submitting comments and instructions on accessing documents related to this action, see “Submitting Comments and Accessing Information” in the SUPPLEMENTARY INFORMATION section of this document. You may submit comments by any of the following methods:

• Federal Rulemaking Web Site: Go to http://www.regulations.gov and search for documents filed under Docket ID NRC-2008-0369. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

FOR FURTHER INFORMATION CONTACT: Carmen G. Fells, Project Manager, Environmental Review and Guidance Update Branch, Division of License Renewal, U.S. Nuclear Regulatory Commission, Washington DC 20555-0001. Telephone: (301) 415-6337; fax number: (301) 415-2002; email: carmen.fells@nrc.gov.

SUPPLEMENTARY INFORMATION:

I. Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You can access publicly available documents related to this document using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The draft SFES is available electronically under ADAMS Accession Number ML112980199.

• Federal Rulemaking Web Site: Public comments and supporting materials related to this notice can be found at http://www.regulations.gov by searching on Docket ID NRC-2008-0369.

II. Background

On December 8, 2011, the NRC held a public meeting (two sessions) at the Magnuson Hotel, in Sweetwater, Tennessee in order to present an overview of the draft SFES and to accept public comments on the document. During these meetings a group of concerned citizens made short presentations, asked questions, and provided comments, with several individuals requesting that the NRC grant an extension to the 45-day comment period.

III. Proposed Action

By this action, the NRC is requesting public comments on the draft SFES. The NRC staff will make a final determination regarding issuance of the SFES after it considers any public comments received in response to this request.

Dated at Rockville, Maryland, this 19th day of December 2011.
For the Nuclear Regulatory Commission.
Stephen J. Campbell,
Chief, Watts Bar Special Projects Branch, Division of Operating Reactor Licensing, Office of Nuclear Reactor Regulation.

[FR Doc. 2011-32909 Filed 12-22-11; 8:45 am]

BILLING CODE 7590-01-P